ENVIRONMENTAL PROTECTION AGENCY

[EPA-HQ-OAR-2007-0069; FRL-8314-7]

Agency Information Collection Activities; Proposed Collection; Comment Request; The SunWise Program; EPA ICR Number 1904.03, OMB Control Number 2060-0439; Correction

AGENCY: Environmental Protection Agency (EPA).

ACTION: Notice; correction.

SUMMARY: The Environmental Protection Agency published a notice in the Federal Register of February 12, 2007, concerning a request for comments on an Information Collection Request for the SunWise program, EPA ICR No. 1904.03, OMB Control No. 2060-0439. The notice contained an incorrect EPA ICR Number.

FOR FURTHER INFORMATION CONTACT: Kristinn Vazquez, (202) 343-9246.

Correction

In the Federal Register of February 12, 2007, in FR Doc. E7-2308, on page 6564, at the top of the second column, correct the title to read: Agency Information Collection Activities: Proposed Collection; Comment Request; The SunWise Program; EPA ICR No. 1904.03, OMB Control No. 2060-0439.

In the Federal Register of February 12, 2007, in FR Doc. E7-2308, on page 6565, at the top of the second column, correct the ICR numbers to read: EPA ICR No. 1904.03, OMB Control No. 2060-0439.

Dated: May 9, 2007.
Elizabeth Craig,
Acting Assistant Administrator for Air and Radiation.

[FR Doc. E7-9292 Filed 5-14-07; 8:45 am]

BILLING CODE 6560-50-P